DEPARTMENT OF JUSTICE

Notice of Lodging of Consent Decree Pursuant to the Comprehensive Environmental Response, Compensation and Liability Act

In accordance with the policy of the Department of Justice, notice is hereby given that a proposed consent decree in United States v. Western Processing Co., et al., Civ. Nos. C83-252M and C89-214M, was lodged with the United States District Court for the Western District of Washington, on November 25, 2002. That action was brought against defendants pursuant to the Comprehensive Environmental Response, Compensation and Liability Act (CERCLA) for payment of past response costs incurred, and future response costs to be incurred, by the United States and the State of Washington at the Western Processing Superfund Site in Kent, Washington. (The site is being cleaned up and most past costs have already been recovered pursuant to several prior settlements.) This decree requires Union Oil Company of California (d/b/a Unocal) (“Unocal”) and RSR Corporation (RSR) to pay: (1) $474,447.16 to the United States, which represents 95% of the remaining United States“ past response costs at this site incurred from January 1, 1997 through June 30, 1998 (including interest); (2) $100,000 to the State of Washington for its past response costs; and (3) 95% of all response costs incurred by the United States and the State at the site after June 30, 1998 (upon being billed for such costs).

Five minor generators of hazardous substance are paying RSR and Unocal a total of $450,000 to resolve their liability for past and future response costs at the site. Finally, the United States, on behalf of the Air Force, Army, Coast Guard, and Navy, will pay RSR and Unocal $118,000 to resolve any remaining liability it may have at the site.

The Department of Justice will receive comments relating to the proposed consent decree for a period of 30 days from the date of this publication. Comments should be addressed to the Assistant Attorney General of the Environment and Natural Resources Division, Department of Justice, Washington, DC 20530. All comments should refer to United States v. Western Processing Co., et al., D.J. Ref. 90-7-1-233.

The proposed consent decree may be examined at the office of the United States Attorney for the Western District of Washington, 3600 Seafirst 5th Avenue Plaza, 800 5th Avenue, Seattle, Washington 98104; and at the Region X office of the Environmental Protection Agency, 1200 Sixth Avenue, Seattle, Washington 98101. A copy of the proposed consent decree may be obtained by mail from the Department of Justice Consent Decree Library, PO Box 7611, Washington, DC 20044-7611. In requesting a copy, please enclose a check in the amount of $14.75 (25 cents per page reproduction costs) payable to the Consent Decree Library. When requesting a copy, please refer to United States v. Western Processing Co., et al., D.J. Ref. 90-7-1-233.

Robert E. Maher, Jr.,
Assistant Section Chief, Environmental Enforcement Section, Environment and Natural Resources Division.

[FR Doc. 02-31914 Filed 12-18-02; 8:45 am]

BILLING CODE 4410-15-M